DEPARTMENT OF JUSTICE

Antitrust Division

Notice Pursuant to the National Cooperative Research and Production Act of 1993—Southwest Research Institute: The Consortium for NASGRO Development and Support

Notice is hereby given that, on July 22, 2008, pursuant to Section 6(a) of the National Cooperative Research and Production Act of 1993, 15 U.S.C. 5 4301 et seq. (“the Act”), Southwest Research Institute Cooperative Research Group on the Consortium for NASGRO Development and Support (“NASGRO”) has filed written notifications simultaneously with the Attorney General and the Federal Trade Commission disclosing changes in the membership and project status of the venture. The notifications were filed for the purpose of extending the Act's provisions limiting the recovery of antitrust plaintiffs to actual damages under specified circumstances. Specifically, the period of performance has been extended to June 30, 2010. The following parties have been added as parties to this venture: Lockheed Martin Corporation, Cherry Hill, NJ; Bombardier Aerospace, Montreal, Quebec, Canada; and Spirit Aerosystems, Wichita, KS.

In addition, Northrop Grumman Corporation, Melbourne, FL has withdrawn as a party to this venture.

No other changes have been made in either the membership or planned activity of the group research project. Membership in this group research project remains open, and NASGRO intends to file additional written notifications disclosing all changes in membership.

On October 3, 2001, NASGRO filed its original notification pursuant to Section 6(a) of the Act. The Department of Justice published a notice in the Federal Register pursuant to Section 6(b) of the Act on January 22, 2002 (67 FR 2910).

The last notification was filed with the Department on October 18, 2004 and published in the Federal Register on November 22, 2004 (69 FR 67950).

Patricia A. Brink,
Deputy Director of Operations, Antitrust Division.

[FR Doc. E8-18880 Filed 8-15-08; 8:45 am]

BILLING CODE 4410-11-M